DEPARTMENT OF AGRICULTURE

Rural Utilities Service

Golden Valley Electric Association, Inc.; Notice of Intent

AGENCY: Rural Utilities Service, USDA.

ACTION: Notice of intent to hold scoping meeting and prepare an environmental assessment and/or an environmental impact statement.

SUMMARY: Notice is hereby given that the Rural Utilities Service (RUS), pursuant to the National Environmental Policy Act (NEPA) of 1969 (42 U.S.C. 4321 et seq.), the Council on Environmental Quality (CEQ) Regulations for implementing NEPA (40 CFR parts 1500-1508), and RUS Environmental Policies and Procedures (7 CFR part 1794) proposes to hold a scoping meeting and prepare an Environmental Assessment (EA) for its Federal action related to a project proposed by Golden Valley Electric Association. Inc., (GVEA) of Fairbanks, Alaska. The project consists of constructing a 138kV transmission line between the GVEA generating facilities at the Williams Alaska Petroleum Refinery in North Pole, Alaska, and the Carney Substation, which is approximately 28 miles southeast of North Pole.

Meeting Information: RUS will conduct a scoping meeting in open house forum on Thursday, April 25, 2002, at the North Pole City Hall, 125 Snowman Lane, North Pole, Alaska 99705, from 5 p.m. until 9 p.m.

FOR FURTHER INFORMATION CONTACT: Nurul Islam, Environmental Protection Specialist, U.S. Department of Agriculture, RUS, Engineering and Environmental Staff, 1400 Independence Avenue, SW, Washington, DC 20250-1571, telephone (202) 720-1414, FAX: (202) 720-0820, e-mail: nislam@rus.usda.gov. Information is also available from Mr. Greg Wyman, Manager of Construction Services, GVEA, POB 71249, Fairbanks, Alaska 99707-1249, telephone (907) 451-5629. His e-mail address is: gwyman@gvea.com.

SUPPLEMENTARY INFORMATION: GVEA proposes to construct the North Pole-Carney Substation 138kV Transmission Line Project, which is approximately 28 miles in length. To accommodate the new transmission line, either a new substation would be built next to the Williams Refinery, or the existing generating/substation facilities at North Pole would be modified to provide an additional breaker to feed the transmission line and other breaker bays for future growth. In addition, GVEA would modify the Carney Substation to provide an additional breaker to allow for termination of the transmission line. This substation work would take place within the existing substation footprint. The primary purpose of the facility is to meet the projected future increases in regional power requirements and to improve the quality of service to existing customers.

Alternatives to be considered by RUS and GVEA include no action, purchased power, upgrade of existing lines, new transmission facilities, alternative sites, alternative routes, energy conservation.

GVEA has prepared an Alternative Evaluations and Macro-Corridor Study for the project. The report is available for public review at RUS or GVEA at the addresses provided in this notice and at the following locations:

(1) Noel Wien Public Library, 1215 Cowles Street, Fairbanks, AK 99701

(2) North Pole City Library, 601 Snowman Lane, North Pole, AK 99705

(3) GVEA Office, 758 Illinois Street, Fairbanks, AK 99707

Federal, state and local agencies, private organizations, and the public are invited to participate in the planning and analysis of the proposed project. Representatives from RUS and GVEA will be available at the scoping meeting to discuss RUS’ environmental review process, the proposed project and the alternatives being considered, scope of the environmental issues to be considered, and answer questions. Oral and written comments will be accepted at the scoping meeting. Written comments regarding the proposed project will also be accepted for 30 days after the scoping meeting. All written comments should be sent to RUS at the address provided in this notice.

Any final action by RUS related to the proposed project will be subject to, and contingent upon, compliance with all relevant Federal environmental laws and regulations and completion of environmental review procedures as prescribed by the CEQ Regulations and RUS Environmental Policies and Procedures.

Dated: March 29, 2002.
Mark S. Plank,
Acting Director, Engineering and Environmental Staff, Rural Utilities Service.

[FR Doc. 02-8202 Filed 4-4-02; 8:45 am]

BILLING CODE 3410-15-P